DEPARTMENT OF HOMELAND SECURITY

Federal Emergency Management Agency

44 CFR Part 67

[Docket No. FEMA-P-7657]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, flood insurance, reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | Elevation in feet* (NGVD): Existing | Elevation in feet* (NGVD): Modified | Communities affected
Lateral 1-B/Tributary No. 11:
Approximately 50 feet upstream of the confluence with Yocona-Spybuck Drainage Canal | None | * 205 | City of Forrest City.
Approximately 2,275 feet upstream of Union Pacific Railroad | * 266 | * 263 | Unincorporated Areas.
Spybuck Drainage Canal:
Approximately 1,160 feet downstream of Woodroe Holeman Road | None | * 216 | City of Forrest City.
Approximately 2,300 feet upstream of Commerce Drive | None | * 238 | Unincorporated Areas.
Tributary No. 1:
Approximately 975 feet downstream of Woodroe Holeman Road | None | * 216 | City of Forrest City.
Approximately 2,470 feet upstream of County Highway 213 | None | * 238 | Unincorporated Areas.
Tributary No. 4:
At the confluence with Tributary No. 5 | None | * 222 | City of Forrest City.
Approximately 60 feet upstream of Dawson Road | None | * 243 | Unincorporated Areas.
Tributary No. 5:
Approximately 2,090 feet downstream of County Highway 231 | None | * 218 | City of Forrest City.
Approximately 350 feet upstream of Entergy Drive | None | * 239 | Unincorporated Areas.
Tributary No. 6:
Approximately 1,000 feet downstream of County Highway 205 | None | * 221 | City of Forrest City.
Approximately 5,330 feet upstream of County Highway 205 | None | * 239 | Unincorporated Areas.
Tributary No. 7:
Approximately 1,000 feet downstream of County Highway 205 | None | * 221 | City of Forrest City.
Approximately 1,075 feet upstream of Turner Circle | None | * 229 | Unincorporated Areas.
Tributary No. 10:
At the confluence with Yocona-Spybuck Drainage Canal (MD-1) | * 219 | * 217 | City of Forrest City.
Approximately 5,010 feet upstream of County Highway 202/Union Pacific Railroad | None | * 221 | Unincorporated Areas.
Tributary No. 12:
At the confluence with Lateral 1-B (Tributary No. 11) | None | * 213 | Unincorporated Areas.
Approximately 4,035 feet upstream of County Highway 808 | None | * 221 |
Tributary No. 13:
At the confluence with Tributary No. 12 | None | * 214 | City of Forrest City.
Approximately 4,500 feet upstream of the confluence with Tributary No. 12 | None | * 222 | Unincorporated Areas.
Tributary No. 14:
At the confluence with Tributary No. 12 | None | * 215 | City of Forrest City.
Approximately 100 feet upstream of Yocona Road | None | * 216 | Unincorporated Areas.
Tributary No. 16:
At the confluence with Tributary No. 12 | None | * 217 | City of Forrest City.
Approximately 2,920 feet upstream of Yocona Road | None | * 224 | Unincorporated Areas.
Tributary No. 17:
Approximately 260 feet downstream of the confluence of Tributary No. 18 | None | * 219 | Unincorporated Areas.
Approximately 4,150 feet upstream of County Highway 814 | None | * 229 |
Tributary No. 18:
At the confluence with Tributary No. 17 | None | * 220 | Unincorporated Areas.
Approximately 2,850 feet upstream of the confluence with Tributary No. 17 | None | * 225 |
Tributary No. 19:
At the confluence with Tributary No. 17 | None | * 223 | Unincorporated Areas.
Approximately 2,390 feet upstream of the confluence with Tributary No. 17 | None | * 226 |
ADDRESSES
City of Forrest City
Maps are available for inspection at the City Hall, 224 North Rosser, Forrest City, Arkansas.
Send comments to The Honorable Larry S. Bryant, City Hall, P.O. Box 1074, 224 North Rosser, Forrest City, Arkansas 72335.
St. Francis County (Unincorporated Areas)
Maps are available for inspection at St. Francis County Courthouse, 313 South Izard Street, Forrest City, Arkansas.
Send comments to The Honorable Carl Cisco, Judge, St. Francis County, 313 Izard Street, Forrest City, Arkansas 72335.

(Catalog of Federal Domestic Assistance No. 83.100, “Flood Insurance.”)
Dated: July 28, 2004.
David I. Maurstad,
Acting Director, Mitigation Division, Emergency Preparedness and Response Directorate.

[FR Doc. 04-17961 Filed 8-5-04; 8:45 am]

BILLING CODE 9110-12-P